DEPARTMENT OF HEALTH AND HUMAN SERVICES

Food and Drug Administration

21 CFR Parts 11 and 101

[Docket No. FDA-2011-F-0172]

RIN 0910-AG57

Food Labeling; Nutrition Labeling of Standard Menu Items in Restaurants and Similar Retail Food Establishments; Correction

AGENCY: Food and Drug Administration, HHS.

ACTION: Proposed rule; correction.

SUMMARY: The Food and Drug Administration (FDA) is correcting a proposed rule that appeared in the Federal Register of April, 6, 2011 (76 FR 19192). To implement the menu labeling provisions of the Patient Protection and Affordable Care Act of 2010 (Affordable Care Act), FDA proposed requirements for providing certain nutrition information for standard menu items in certain chain restaurants and similar retail food establishments. The document published with several errors in cross references, an incomplete address, and a typographical error in the codified section of the document. This document corrects those errors.

FOR FURTHER INFORMATION CONTACT: Claudine Kavanaugh, Office of Foods, Food and Drug Administration, 10903 New Hampshire Ave., Bldg. 1, rm. 3234, Silver Spring, MD 20993, 301-796-4647.

SUPPLEMENTARY INFORMATION: In FR Doc. 2011-7940, appearing on page 19192, in the Federal Register of Wednesday, April 6, 2011, FDA is making the following corrections:

1. On page 19193, in the second column, in the first full paragraph, in the last sentence, “section III.A of this document” is corrected to read “section III.B of this document”.

2. On page 19194, in the second column, in the third full paragraph, in the last sentence, “discussed in section III.C.” is corrected to read “discussed in section III.D”.

3. On page 19205, in the first column, in the eighth line, “discussed in section III.C.” is corrected to read “discussed in section III.D”.

4. On page 19205, in the third column, in the twelfth line, “discussed in III.A.” is corrected to read “discussed in section III.B”.

5. On page 19207, in the first column, in the last paragraph, in the fourth sentence, “discussed in section II.A.” is corrected to read “discussed in section III.B”.

6. On page 19207, in the second column, in the fifth line, “discussed in section III. A.” is corrected to read “discussed in section III.B”.

7. On page 19214, in the second column, in the second full paragraph, in the second sentence, “§ 101.11(2)(ii)” is corrected to read “§ 101.11(b)(2)(ii)(A)”.

8. On page 19214, in the second column, in the third full paragraph, “§ 101.11(2)(ii)(D)” is corrected to read “§ 101.11(b)(2)(ii)(D)”.

9. On page 19216, in the first column, in the second full paragraph in the third sentence, “§ 101.11(b)(2)(i)(4))” is corrected to read “§ 101.11(b)(2)(i)(A)(4)”.

10. On page 19218, in the second column, in the last paragraph, in the first sentence, “§ 101.11(c)(2)” is corrected to read “§ 101.11(d)(2)” and “§ 101.11(a)(10)” is corrected to read “§ 101.11(a)”.

11. On page 19218, in the third column, the first sentence, “FDA is also proposing in § 101.11(c)(2) that an authorized official may register an individual restaurant or similar retail food establishment or multiple restaurants or similar retail food establishments that are part of chain on a single registration form.” is corrected to read “Under this proposal an authorized official may register an individual restaurant or similar retail food establishment or multiple restaurants or similar retail food establishments that are part of a chain on a single registration form.”

12. On page 19218, in the third column, in the last full paragraph, “FDA, White Oak Building 22, Room 0209, 10903 New Hampshire Ave., Silver Spring, MD 20993” is corrected to read “FDA, CFSAN Menu and Vending Machine Labeling Registration, White Oak Building 22, rm. 0209, 10903 New Hampshire Ave., Silver Spring, MD 20993”.

13. On page 19219, in the first column, in the second full paragraph, in the last sentence, “§ 101.11(c)(2)” is corrected to read “§ 101.11(c)(6)”.

14. On page 19226, in Table 6, in the seventh column, “42,226,212” is corrected to read “36,962,326”.

15. On page 19227, in Table 7, the title “Table 7—ESTIMATED ANNUAL THIRD PARTY DISCLOSURE BURDEN: NUTRIENT DISCLOSURE FOR PROPOSED § 101.11(B)” is corrected to read “TABLE 7—ESTIMATED ANNUAL THIRD PARTY DISCLOSURE BURDEN: NUTRIENT DISCLOSURE FOR PROPOSED § 101.11(b)”.

16. On page 19228, in Table 8, the title “Table 8—ESTIMATED ANNUAL REPORTING BURDEN, VOLUNTARY REGISTRATION UNDER PROPOSED § 101.11(c)(3)” is corrected to read “Table 8—ESTIMATED ANNUAL REPORTING BURDEN, VOLUNTARY REGISTRATION UNDER PROPOSED § 101.11(d)(3)” and at the end of the table, the following table note is added “ ¹ There are no capital costs or operating and maintenance costs associated with this collection of information.”

17. In proposed § 101.11(a), on page 19233, in the second column, in the definition of restaurant-type food, “Restaurant-type food means food of the type described in the definition of ‘restaurant food’ that is ready food human consumption * * *” is corrected to read “Restaurant-type food means food of the type described in the definition of 'restaurant food' that is ready for human consumption * * * ”.

18. In proposed § 101.11(b)(2)(i)(C), on page 19234, in the second column, “paragraph (b)(3)(i) of this section” is corrected to read “paragraph (b)(2)(ii) of this section”.

19. In proposed § 101.11(b)(2)(iii)(A)(1) and (b)(2)(iii)(A)(2), on page 19235, in the first column, “§ 101.10(b)(2)(ii)(A)” is corrected to read “§ 101.11(b)(2)(iii)(A)”.

20. In proposed § 101.11(d)(3)(vii), on page 19236, in the third column, “FDA White Oak Building 22, Room 0209, 10903 New Hampshire Ave., Silver Spring, MD 20993” is corrected to read “FDA, CFSAN Menu and Vending Machine Labeling Registration, White Oak Building 22, rm. 0209, 10903 New Hampshire Ave., Silver Spring, MD 20993”.

21. In proposed § 101.11(d)(4), on page 19236, in the third column, “§ 101.11(c)(3)” is corrected to read “§ 101.11(d)(3)”.

Dated: May 19, 2011.
Leslie Kux,
Acting Assistant Commissioner for Policy.

[FR Doc. 2011-12735 Filed 5-23-11; 8:45 am]

BILLING CODE 4160-01-P